DEPARTMENT OF TRANSPORTATION

Coast Guard

[USCG-2001-9284]

Coast Guard Advisory to Recreational Boaters on Fuel Leak Hazard Involving Evinrude FICHT 200 Horsepower and 225 Horsepower Outboard Motors

AGENCY: Coast Guard, DOT.

ACTION: Consumer advisory notice.

SUMMARY: The purpose of this notice is to alert owners and operators of boats powered by 1999 or 2000 Evinrude FICHT 200 horsepower and 225 horsepower outboard motors about a fuel leak problem that causes a potential fire and explosion hazard. There is evidence that fuel leaks affecting these outboard models have resulted in fires and explosions that, in some cases, caused personal injuries. The Coast Guard advises owners and operators to cease using 1999 or 2000 Evinrude FICHT 200 horsepower and 225 horsepower outboard motors until such time as the defect is corrected. Normally, the Coast Guard would notify the Outboard Motor Company (OMC), the Evinrude outboard manufacturer, of the need to conduct a safety recall of the defective motors. However, OMC filed for bankruptcy in December 2000, and the Evinrude engine line has since been purchased by Bombardier Motor Corporation of America. Bombardier has accepted responsibility for the recall and will be notifying affected outboard owners of the recall in the near future. Bombardier reports that several thousand of the affected outboards have previously been corrected by OMC through the installation of an upgrade kit. The Coast Guard warns all boaters that there is a serious danger of a fire or explosion with continued use of uncorrected 1999 and 2000 model year Evinrude FICHT 200 horsepower and 225 horsepower outboard motors that could result in serious injury or death.

FOR FURTHER INFORMATION CONTACT: Philip Cappel, Chief, Recreational Boating Product Assurance Division, Commandant (G-OPB-3), 2100 Second Street SW., Washington, DC 20593, telephone (202) 267-0988, e-mail pcappel@comdt.uscg.mil. The docket, USCG-2001-9284, is available for inspection or copying at the Docket Management Facility, U.S. Department of Transportation, room PL-401, 400 Seventh Street SW., Washington, DC, between 9 a.m. and 5 p.m., Monday through Friday, except Federal holidays. You may also find this docket on the Internet at http://dms.dot.gov.

SUPPLEMENTARY INFORMATION: The Coast Guard recently learned that in November 2000 the Outboard Marine Corporation sent a “service upgrade bulletin” to its Evinrude outboard motor dealers concerning the company's 1999 and 2000 model year 200 and 225 horsepower models. The upgrade was intended to “reduce the likelihood of fuel leaks, which can be a potentially hazardous condition.” After further investigation, the Coast Guard learned that between July 1999 and December 2000 OMC had received reports of an unacceptably high number of fires and explosions involving the company's 1999 and 2000 model year Evinrude FICHT 200 and 225 horsepower models.

The Coast Guard has the legal authority to require manufacturers of boats and engines to notify owners and to recall and repair or replace products that contain defects which create a substantial risk of personal injury to the public, or which fail to comply with an applicable U.S. Coast Guard safety standard. The Coast Guard has determined that the problems involving the 1999 and 2000 model year Evinrude FICHT 200 and 225 horsepower motors constitute a defect that creates a substantial risk of injury to the public. Under normal circumstances, the Coast Guard would notify OMC that a safety recall was necessary and would pursue the correction of this defect via OMC. However, OMC filed for bankruptcy in federal court in December 2000 and has since sold its Evinrude and Johnson outboard engine lines to Bombardier Motor Corporation of America. Bombardier has agreed to accept responsibility for this recall and will be notifying affected Evinrude owners in the near future. Bombardier reports that they intend to distribute upgrade kits to dealers that will correct this problem and that several thousand of the affected outboards have previously been corrected by OMC through the installation of these upgrade kits.

The Coast Guard warns all boaters that there is a serious danger of a fire or explosion with continued use of uncorrected 1999 and 2000 model year Evinrude FICHT 200 horsepower and 225 horsepower outboard motors that could result in serious injury or death.

Authority: 46 U.S.C. 4310(e).

Dated: March 29, 2001.
Kenneth T. Venuto,
Rear Admiral, U.S. Coast Guard, Director of Operations Policy.

[FR Doc. 01-8311 Filed 4-4-01; 8:45 am]

BILLING CODE 4910-15-U